DEPARTMENT OF HEALTH AND HUMAN SERVICES

National Institutes of Health

National Institute of Neurological Disorders and Stroke Amended; Notice of Meeting

Notice is hereby given of a change in the meeting of the National Institute of Neurological Disorders and Stroke Special Emphasis Panel, April 01, 2021, 10:00 a.m. to April 02, 2021, 06:00 p.m., National Institutes of Health, Neuroscience Center, 6001 Executive Boulevard, Rockville, MD 20852 which was published in the Federal Register on February 26, 2021, 86 FR 11783.

This notice is being amended to make this two-day meeting a three-day meeting. The meeting will now be held from March 31, 2021 to April 2, 2021. The meeting time remains the same. The meeting is closed to the public.

Dated: March 23, 2021.
Tyeshia M. Roberson,
Program Analyst, Office of Federal Advisory Committee Policy.

[FR Doc. 2021-06367 Filed 3-26-21; 8:45 am]

BILLING CODE 4140-01-P